FEDERAL COMMUNICATIONS COMMISSION

Open Commission Meeting, Thursday, May 9, 2019

The Federal Communications Commission held an Open Meeting on the subjects listed below on Thursday, May 9, 2019 which scheduled to commence at 10:30 a.m. in Room TW-C305, at 445 12th Street SW, Washington, DC.

Item No. | Bureau | Subject
1 | INTERNATIONAL | Title: China Mobile International (USA) Inc., Application for Global Facilities-Based and Global Resale International Telecommunications Authority Pursuant to Section 214 of the Communications Act of 1934, as Amended (File No. ITC-214-20110901-00289).
|  | Summary: The Commission will consider a Memorandum Opinion and Order that would deny the application of China Mobile USA for a Section 214 authorization to provide international telecommunications services between the United States and foreign destinations.
2 | WIRELESS TELECOMMUNICATIONS | Title: Allocation and Service Rules for the 1675-1680 MHz Band (WT Docket No. 19-116).
|  | Summary: The Commission will consider a Notice of Proposed Rulemaking that would seek comment on reallocating spectrum in the 1675-1680 MHz band for shared use between incumbent federal operations and non-federal fixed or mobile (except aeronautical mobile) operations.
3 | MEDIA | Title: Amendment of Part 74 of the Commission's Rules Regarding FM Translator Interference (MB Docket No. 18-119).
|  | Summary: The Commission will consider a Report and Order that would adopt streamlined rules relating to interference caused by FM translators and expedite the translator interference complaint resolution process.
4 | WIRELINE COMPETITION | Title: Auction of Toll-Free Numbers in the 833 Code; Comment Sought on Competitive Bidding Procedures (AU Docket No. 19-101, WC Docket No. 17-192, and CC Docket No. 95-155).
|  | Summary: The Commission will consider a Public Notice seeking comment on proposed procedures for conducting and participating in an auction of toll-free numbers in the 833 code.
5 | OFFICE OF MANAGING DIRECTOR | Title: Assessment and Collection of Regulatory Fees for Fiscal Year 2019 (MD Docket No. 19-105).
|  | Summary: The Commission will consider a Notice of Proposed Rulemaking to seek comment on proposed regulatory fees for Fiscal Year 2019.
6 | INTERNATIONAL | Title: Theia Holdings A, Inc. Request for Authority to Launch and Operate a Non-Geostationary Satellite Orbit System in the Fixed-Satellite Service, Mobile-Satellite Service, and Earth-Exploration Satellite Service (File Nos. SAT-LOA-20161115-00121, SAT-AMD-20170301-00029; Call Sign S2986).
|  | Summary: The Commission will consider a Memorandum Opinion Order and Authorization that would grant Theia's request to deploy and operate a proposed non-geostationary satellite constellation to provide earth imaging services around the world.
7 | CONSUMER & GOVERNMENTAL AFFAIRS | Title: Structure and Practices of the Video Relay Service Program (CG Docket No. 10-51); Telecommunications Relay Services and Speech-to-Speech Services for Individuals with Hearing and Speech Disabilities (CG Docket No. 03-123).
|  | Summary: The Commission will consider a Report and Order and Further Notice of Proposed Rulemaking that would adopt measures, and seek comment on others, to improve Video Relay Service (VRS), expand access to direct video communications, and protect the VRS program against waste, fraud, and abuse.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Katura Jackson,
Federal Register Liaison, Office of the Secretary.

[FR Doc. 2019-10075 Filed 5-14-19; 8:45 am]

BILLING CODE 6712-01-P